FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—8/08/2005
20051354 | CHS Inc | Dean Foods Company | Dean Intellectual Property Services, L.P.
|  |  | Dean Intellectual Property Services II, L.P.
|  |  | Morningstar Services, Inc.
|  |  | Morningstar Foods, LLC.
|  |  | White Wave Food Company.
20051355 | Mitsui & Co., Ltd | Dean Foods Company | Dean Intellectual Property Services II, L.P.
|  |  | Dean Intellectual Property Services, L.P.
|  |  | Morningstar Foods, LLC.
|  |  | Morningstar Services, Inc.
|  |  | White Wave Foods Company.
TRANSACTIONS GRANTED EARLY TERMINATION—8/09/2005
20051279 | Omnicare, Inc | James S. Karp | Making Distribution Intelligent, L.L.C.
|  |  | RxCrossroads, L.L.C.
|  |  | Rxinnovations, L.L.C.
20051312 | Microsoft Corporation | FrontBridge Technologies, Inc | FrontBridge Technologies, Inc.
20051351 | XM Satellite Radio Holdings Inc | WCS Wireless, Inc | WCS Wireless, Inc.
20051363 | Green Field II, LLC | Health Resource Partners, LLC | NAMM Holdings, Inc.
TRANSACTIONS GRANTED EARLY TERMINATION—8/11/2005
20051290 | Duke Energy Construction | Cinergy Corp | Cinergy Corp.
20051291 | Cinergy Corp | Duke Energy Corporation | Duke Energy Corporation.
TRANSACTIONS GRANTED EARLY TERMINATION—8/12/2005
20051365 | CCG Investments BVI, L.P | Aspect Communications Corporations | Aspect Communications Corporations.
20051366 | FPL Group, Inc | Alliant Energy Corporation | Duane Arnold Energy Center.
|  |  | Interstate Power and Light Company.
|  |  | Iowa Land and Building Company.
20051376 | Mohawk Industries, Inc | Cigales SAK | Unilin Holding NV.
20051377 | Thomson S.A | PRN Corporation | PRN Corporation
20051379 | Blackstone Capital Partners (Cayman) IV L.P | Kjeld Kirk Kristiansen | LEGOLAND California LLC.
|  |  | LEGOLAND Estates AG.
20051382 | Spohn Cement GmbH | Heidelberg Cement AG | HeidelbergCement AG.
20051383 | Chesapeake Corporation | Aurora Equity Partners L.P | Impaxx Pharmaceutical Packaging, Inc.
20051386 | Gannett Co., Inc | Knight-Ridder, Inc | Knight Ridder Digital.
|  |  | KR USA, Inc.
|  |  | Tallahassee Democrat, Inc.
20051387 | Knight-Ridder, Inc | Gannett Co., Inc | Des Moines Register and Tribune Company.
|  |  | Federated Publications, Inc.
|  |  | Gannett Satellite Information Network, Inc.
|  |  | Media West-FPI, Inc.
20051389 | International Business Machines Corporation | DWL (USA) Inc | DWL (USA) Inc.
20051390 | American Pacific Corporation | GenCorp Inc | Aerojet Fine Chemicals LLC.
|  |  | Aerojet-General Corporation.
20051391 | MHR Institutional Partners IIA LP | Loral Space & Communications Ltd | Loral Space & Communications Inc.
20051392 | MHR Institutional Partners LP | Loral Space & Communications Ltd | Laral Space & Communications Inc.
20051393 | Aberdeen Asset Management PLC | Deutsche Bank AG | Deutsche Bank AG.
|  |  | Deutsche Investment Management.
|  |  | Scudder Trust Company.
20051397 | President and Fellows of Harvard College | VarTec Telecom, Inc. (Debtor-in-possession) | Excelcom, Inc.
|  |  | Excel Communications Marketing, Inc.
|  |  | Excel Management Service, Inc.
|  |  | Excel Products, Inc.
|  |  | Excel Telecommunications, Inc.
|  |  | Excel Telecommunications of Virginia, Inc.
|  |  | Excel Teleservices, Inc.
|  |  | Telco Communications Group, Inc.
|  |  | Telco Network Services, Inc.
|  |  | VarTec Business Trust.
|  |  | VarTec Properties, Inc.
|  |  | VarTec Resource Services, Inc.
|  |  | VarTec Solutions, Inc.
|  |  | VarTec Telecom Holding Company.
|  |  | VarTel Telecom International Holding Company.
|  |  | VarTec Telecom of Virginia, Inc.
20051399 | GUS plc | Mark and Karen Hill, husband and wife | Baker Hill Corporation.
TRANSACTIONS GRANTED EARLY TERMINATION—8/15/2005
20051317 | Legg Mason, Inc | Citigroup Inc | Citibank Global Asset Management (Asia) Limited (Hong Kong).
|  |  | Citicorp Chile Administradora General de Fondos S.A. (Chile).
|  |  | Citi FCP S.A. (Luxembourg).
|  |  | Citigroup Advisors Co., Ltd. (Japan).
|  |  | Citigroup Asset Management Limited (United Kingdom).
|  |  | Citigroup Investment Management (Luxembourg) S.A.
|  |  | Citi Islamic Portfolios S.A. (Luxembourg).
|  |  | CitiMoney S.A. (Luxembourg).
|  |  | Handlowy Zarzadzanie Aktywami S.A. (Poland).
|  |  | Solomon Brotherds Asset Management Asia Pacific Limited.
|  |  | Salomon Brothers Asset Management Inc. (Delaware, USA).
|  |  | Salomon Brothers Asset Management (Ireland).
|  |  | Smith Barney Fund Management LLC (Delaware, USA).
|  |  | Smith Barney Global Capital Management, Inc.
|  |  | The Travelers Investment Management Company.
|  |  | Towarzstwo Funduszy Inwestycyjnych BH S.A. (Poland).
20051318 | Citigroup Inc | Legg Mason, Inc | Howard Weil Financial Corporation (Louisiana).
|  |  | Legg Mason, Inc.
|  |  | Legg Mason Insurance Agency, Inc. (Maryland).
|  |  | Legg Mason Insurance Agency of Massachusetts, Inc.
|  |  | Legg Mason Insurance Agency of Texas, Inc. (Texas).
|  |  | Legg Mason Limited UK Corporation (United Kingdom).
|  |  | Legg Mason Mortgage Capital Corporation (Maryland).
|  |  | Legg Mason Wood Walker, Inc. (Maryland).
|  |  | LM Falcon Investment Strategies, Inc. (Maryland).
|  |  | Orchard Financial Services, Inc. (Maryland).
|  |  | Peregrine Investment LLC (Maryland).
20051388 | Evergreen Pacific Partners, L.P | Clear Channel Communications, Inc | Citicasters Co.
20051401 | Brockway Moran & Partners Fund II, LP | Long Point Capital/Fund, L.P | Colibri Holding Corporation.
TRANSACTIONS GRANTED EARLY TERMINATION—8/16/2005
20051327 | Novartis AG | Bristol Myers Squibb Company | Bristol Myers Squibb Company.
20051374 | Schneider Electric SA | BEI Technologies, Inc | BEI Technologies, Inc.
20051378 | American Capital Strategies, Ltd | Halifax Capital Partners L.P | Soil Safe Holding, Inc.
20051396 | Oracle Corporation | i-flex Solutions Limited | i-flex Solutions Limited.
TRANSACTIONS GRANTED EARLY TERMINATION—8/17/2005
20051347 | CIT Group Inc | Itochu Corporation | Healthcare Business Credit Corporation.
20051369 | El Paso Corporation | Chevron Corporation | Four Star Oil & Gas Company.
20051398 | Apollo Investment Fund V, L.P | Cendant Corporation | Cendant International Holding Ltd.
|  |  | Cendant Marketing Group, LLC.
20051408 | Hughes Supply, Inc | TVESCO, Inc | TVESCO, Inc.
20051412 | Ares Corporation Opportunities Fund, L.P | National Bedding Holdings, Inc | National Bedding Company, L.L.C.
|  |  | Star LP.
TRANSACTIONS GRANTED EARLY TERMINATION—8/19/2005
20051352 | DPS Credit Union | Safeway Rocky Mountain Federal Credit Union | Safeway Rocky Mountain Federal Credit Union.
20051409 | Cobb Electric Membership Corporation | The Southern Company | Southern Company Gas, LLC.
20051411 | American Capital Strategies, Ltd | Carol F. and Ralph A. Venuto, Sr | Hollywood Tanning Systems, Inc.
20051414 | PolyMedia Corporation | Robert M. Haft | National Diabetic Pharmacies, Inc.
20051415 | General Electric Company | Babcock & Brown Limited | Kumeyaay Wind LLC.
20051416 | Berkshire Hathaway Inc | Peter J. Liegl | Forest River Housing, Inc.
|  |  | Forest River, Inc.
|  |  | Forest River Warranty Company.
|  |  | FR Texas Group, LP.
|  |  | Linnae Corporation.
|  |  | Mapletree Transportation, Inc.
|  |  | Vanguard, LLC.
20051420 | Yucaipa American Alliance Fund I, LP | Pathmark Stores, Inc | Pathmark Stores, Inc.
20051427 | GS Holdings Co | Carlyle Partners III, L.P | Panolam Industries Holdings, Inc.
20051430 | QinetiQ Holdings Limited | Arlington Capital Partners | Apogen Technologies, Inc.
20051431 | Hellman & Friedman Capital Partners IV, L.P | National Association of Securities Dealers, Inc | National Association of Securities Dealers, Inc.
20051436 | Atlantic Equity Partners III, L.P | Precision Parts International, LLC | MPI International Holdings, Inc.
|  |  | Precision Gear Holdings, Inc.
|  |  | Precision Parts International Services Corp.
|  |  | Skill Tool & Die Holdings Corp.
20051438 | News Corporation | Intermix Media, Inc | Intermix Media, Inc.
20051443 | Carlyle Partners IV, L.P | SS&C Technologies, Inc | SS&C Technologies, Inc.
TRANSACTIONS GRANTED EARLY TERMINATION—8/22/2005
20051450 | Silver Lake Partners II TSA, L.P | National Association of Securities Dealers, Inc | National Association of Securities Dealers, Inc.
TRANSACTIONS GRANTED EARLY TERMINATION—8/23/2005
20050993 | Cal Dive International, Inc | Torch Offshore Inc | Torch Offshore Inc.
TRANSACTIONS GRANTED EARLY TERMINATION—8/24/2005
20051402 | Bunzl plc | Royal Ahold | U.S. Foodservice, Inc.
20051428 | Veolia Environment S.A | National Express Group, PLC | ATC/Vancom, Inc.
20051434 | MCI, Inc | Totality Corporation | Totality Corporation.
TRANSACTIONS GRANTED EARLY TERMINATIONS—8/25/2005
20051395 | Parker Hannifin Corporation | domnick hunter group plc | domnick hunter group plc.
20051400 | Engelhard Corporation | Rhone Capital LLC | Almatis AC, Inc.
20051429 | SunCom Wireless Holdings, Inc., f/k/a Triton PCS Holdings | Urban Communicators PCS Ltd Partnership, Debtor-in-Possession | Urban Comm-North Carolina, Inc., Debtor-in-Possession.
20051437 | UniCredito Italiano SpA | Bayerische Hypo-und Vereinsbank AG | Bayerische Hypo-und Vereinsbank AG.
TRANSACTIONS GRANTED EARLY TERMINATION—8/26/2005
20051380 | TA IX L.P | Henry L. Hillman | SCCI Health Services Corporation.
20051405 | Bandai Co., Ltd | Namco Limited | Namco Limited.
20051439 | General Dynamics Corporation | CCG Investment Fund, L.P | New Itronix Holdings Corporation.
20051458 | The Procter & Gamble Company | The Gillette Company | The Gillette Company.
20051462 | SkyWest, Inc | Delta Air Lines, Inc | Atlantic Southeast Airlines, Inc.
20051469 | Welsh, Carson, Anderson & Stowe IX, L.P | Mr. and Mrs. John H. and Jean Kung Jessen | Electronic Evidence Discovery, Incorporated.
20051481 | Brockway Moran & Partners Fund II, L.P | Morgenthaler Partners VI, L.P | GED Holdings, Inc.

FOR FURTHER INFORMATION CONTACT: Sandra M. Peay, Contact Representative or Renee Hallman, Case Management Assistant.

Federal Trade Commission, Premerger Notification Office, Bureau of Competition, Room H-303, Washington, DC 20580, (202) 326-3100.

By direction of the Commission.
Donald S. Clark,
Secretary.

[FR Doc. 05-17753 Filed 9-7-05; 8:45 am]

BILLING CODE 6750-01-M